DEPARTMENT OF TRANSPORTATION

Surface Transportation Board

[STB Docket No. AB-837X]

Long Island Rail Road Company—Discontinuance of Service Exemption—in Garden City, Long Island, NY

On May 21, 2002, the Long Island Rail Road Company (LIRR), a Class II rail common carrier, filed with the Surface Transportation Board (Board) a petition under 49 U.S.C. 10502 for exemption from 49 U.S.C. 10903 to discontinue service over a line of railroad between milepost 18.8 in Garden City and milepost 21.0 in Garden City, Nassau County, NY, a distance of 2.2 miles.¹ The line traverses U.S. Postal Service Zip Code 11530 and includes no stations.

¹ LIRR is owned by the Metropolitan Transportation Authority (MTA). The notice states that both LIRR and MTA are State of New York public authorities and public benefit corporations.

The line does not contain federally granted rights-of-way. Any documentation in the railroad's possession will be made available promptly to those requesting it.

The interests of railroad employees will be protected by the conditions set forth in Oregon Short Line R. Co.—Abandonment—Goshen, 360 I.C.C. 91 (1979).

By issuing this notice, the Board is instituting an exemption proceeding pursuant to 49 U.S.C. 10502(b). A final decision will be issued by September 6, 2002.

Any offer of financial assistance (OFA) under 49 CFR 1152.27(b)(2) will be due no later than 10 days after service of a decision granting the petition for exemption. Each OFA must be accompanied by a $1,100 filing fee. See 49 CFR 1002.2(f)(25).

All filings in response to this notice must refer to STB Docket No. AB-837X and must be sent to: (1) Surface Transportation Board, Case Control Unit, 1925 K Street, NW., Washington, DC 20423-0001; and (2) Roberta Bender, 347 Madison Ave., Ninth Floor, New York, NY 10017-3739. Replies to the LIRR petition are due on or before July 1, 2002.

Persons seeking further information concerning abandonment and discontinuance procedures may contact the Board's Office of Public Service at (202) 565-1592 or refer to the full abandonment or discontinuance regulations at 49 CFR part 1152. Questions concerning environmental issues may be directed to the Board's Section of Environmental Analysis (SEA) at (202) 565-1552. [TDD for the hearing impaired is available at 1-800-877-8339.]

An environmental assessment (EA) (or environmental impact statement (EIS), if necessary) prepared by SEA will be served upon all parties of record and upon any agencies or other persons who commented during its preparation. Other interested persons may contact SEA to obtain a copy of the EA (or EIS). EAs in these abandonment or discontinuance proceedings normally will be made available within 60 days of the filing of the petition. The deadline for submission of comments on the EA will generally be within 30 days of its service.

Board decisions and notices are available on our Web site at “WWW.STB.DOT.GOV.”

Decided: June 5, 2002.
By the Board, David M. Konschnik, Director, Office of Proceedings.
Vernon A. Williams,
Secretary.

[FR Doc. 02-14640 Filed 6-7-02; 8:45 am]

BILLING CODE 4915-00-P